DEPARTMENT OF THE INTERIOR

Bureau of Land Management

[PO #4820000251]

Intent To Prepare an Environmental Impact Statement for the Oil and Gas Leasing Decisions in Seven States From February 2015 to December 2020

AGENCY: Bureau of Land Management, Interior.

ACTION: Notice of intent.

SUMMARY: The Bureau of Land Management (BLM) intends to prepare an Environmental Impact Statement (EIS) for approximately 3,224 oil and gas leases sold in Colorado, Montana, New Mexico, North Dakota, South Dakota, Utah, and Wyoming and issued pursuant to 74 individual lease sale decisions. The EIS will provide a comprehensive analysis of the potential environmental impacts from these leases, which have been remanded to BLM for further review, including the impacts of greenhouse gas emissions (to include the social cost of carbon) and other common impacts.

DATES: This notice initiates the public scoping process for the EIS. Comments on issues, impacts, and potential new alternatives to be analyzed, as well as on relevant information, studies, or analyses, may be submitted in writing until March 17, 2025. The BLM will announce on its website any additional venues for commenting during scoping.

ADDRESSES: You may submit comments by any of the following methods:

• Website: https://eplanning.blm.gov/eplanning-ui/project/2036015/510.

• Mail: BLM, Headquarters, Division of Fluid Minerals, Attention—Oil and Gas litigated leases EIS, 301 Dinosaur Trail, Santa Fe, New Mexico 87508.

FOR FURTHER INFORMATION CONTACT: Janna Simonson, Project Lead, or John Ajak, Division Chief, via email at bllm_hq_litigated leases_EIS@blm.gov, or via telephone at 505-954-2000; or by mail at Bureau of Land Management, 301 Dinosaur Trail, Santa Fe, NM 87508. You may also request to be added to the mailing list for the EIS. The 2022 supplemental EA may be found at the https://eplanning.blm.gov/eplanning-ui/project/2022218/510.

Individuals in the United States who are deaf, deafblind, hard of hearing, or have a speech disability may dial 711 (TTY, TDD, or TeleBraille) to access telecommunications relay services for contacting Ms. Headen. Individuals outside the United States should use the relay services offered within their country to make international calls to the point-of-contact in the United States.

SUPPLEMENTARY INFORMATION: The BLM will review the environmental analyses for the leasing decisions that were challenged in the following lawsuits: WildEarth Guardians v. BLM, 19-cv-00505 (D.N.M.), 20-2146 (10th Cir.) (challenging leasing decisions in New Mexico); WildEarth Guardians v. Bernhardt, 16-cv-01724 (D.D.C.) (challenging leasing decisions in Colorado, Utah, and Wyoming); WildEarth Guardians v. Bernhardt, 20-cv-00056 (D.D.C.) (challenging leasing decisions in Colorado, Montana, New Mexico, North Dakota, South Dakota, Utah, and Wyoming); WildEarth Guardians v. Bernhardt, 21-cv-00175 (D.D.C.) (challenging leasing decisions in Colorado, New Mexico, Utah, and Wyoming); and WildEarth Guardians v. Bernhardt, 21-cv-00004 (D. Mont.) (challenging leasing decisions in Montana, North Dakota and South Dakota). Impacts to other resources were also raised in the subject complaints. The BLM may elect to include additional analysis in the EIS for resources and impacts beyond greenhouse gas emissions, climate change, and the social cost of greenhouse gases.

The area encompassed by the challenged oil and gas leases includes approximately 3.5 million acres within the States of Colorado, Montana, New Mexico, North Dakota, South Dakota, Utah, and Wyoming. In September 2022, the BLM prepared and solicited public comments on the Supplemental Environmental Assessment Analysis for Greenhouse Gas Emissions Related to Oil and Gas Leasing in Seven States from February 2015 to December 2020. In consideration of new science and information related to greenhouse gas emissions, climate change, and the social cost of greenhouse gases (e.g., the Department's adoption, on October 16, 2024, of new estimates of the social cost as the best available science), and the number of oil and gas leases under consideration across seven States, the BLM is electing to prepare an EIS, with associated opportunities for public comment. The number of leases and amount of acreage at issue may also warrant analysis of other common impacts, such as those to wildlife, water resources, and night skies.

The purpose of this public scoping process is to solicit information from the public related to these leases. Information received during this process will influence the development of the EIS and guide the scope of the environmental analysis.

The leasing decisions that will be analyzed in this EIS arise from BLM's responsibility under the Federal Land Policy and Management Act and the Mineral Leasing Act. The purpose and need for the EIS is to address issues raised in multiple civil lawsuits about the adequacy of the environmental analyses for the various decisions at issue and to ensure compliance with the National Environmental Policy Act, applicable Executive and Secretarial Orders, and Departmental policies regarding analysis of the impacts from greenhouse gas emissions and the social cost of greenhouse gases—including Executive Order 13990, Secretary's Order 3399, and new information provided in the 2023 BLM Specialist Report on Annual Greenhouse Gas Emissions and Climate Trends. Potential new alternatives to be considered in the EIS include, but are not limited to, those that would affirm the issuance of these leases under the terms, conditions, and stipulations as originally issued, or not affirm their issuance under their original terms, conditions, and stipulations.

After the scoping comment period is closed, the BLM will review and consider the scoping comments received and will develop a Draft EIS, which BLM estimates will be completed approximately 6 to 8 months after the scoping period ends. At that time, the Draft EIS will be made available for public comment for at least 45 days. After the close of the Draft EIS comment period, the BLM will develop a Final EIS incorporating comments received on the Draft, which the BLM estimates will be completed approximately 6 months after the Draft EIS comment period ends. A record of decision selecting an alternative from the Final EIS would be issued no sooner than 30 days after notice of the availability of the Final EIS is published in the Federal Register.

(Authority: 30 U.S.C. 181 and 226; 43 U.S.C. 1701 et seq.; 42 U.S.C. 4332; and 43 CFR part 3100 (2024))

Steven Feldgus,
Principal Deputy Assistant Secretary, Land and Minerals Management.

[FR Doc. 2025-00854 Filed 1-15-25; 8:45 am]

BILLING CODE 4331-27-P